DEPARTMENT OF THE INTERIOR

National Park Service

[NPS-PWR-PWRO-10630; 9530-1000-SZM]

Final Environmental Impact Statement for Cattle Point Road Relocation, San Juan Island National Historical Park, San Juan County, Washington

AGENCY: National Park Service, Interior.

ACTION: Notice of Availability of the Final Environmental Impact Statement for Cattle Point Road Relocation, San Juan Island National Historical Park.

SUMMARY: Pursuant to the National Environmental Policy Act of 1969 (Pub. L. 91-190, as amended), and the Council on Environmental Quality Regulations (40 CFR parts 1500-1508), the National Park Service (NPS) and the Federal Highway Administration (FHWA), in cooperation with San Juan County, Washington and the Washington State Department of Natural Resources, have prepared a Final Environmental Impact Statement (Final EIS) for alternatives designed to respond to coastal bluff erosion that threatens a segment of the Cattle Point Road located in San Juan Island National Historical Park (Park), Washington. The Final EIS identifies and analyzes three action alternatives for realignment of the road through the park for use by residents and visitors traveling to the east end of the Cattle Point peninsula. The potential environmental consequences of these alternatives (and a no-action alternative which would continue current road management), and appropriate measures to minimize or avoid harm, are identified and analyzed.

Background: A 500-foot long segment of the Cattle Point Road, which terminates on the southeastern tip of San Juan Island, is threatened by coastal erosion at the base of the slope traversed by the road. This road passes through the Park and serves residences on a peninsular area of the island known as Cattle Point, as well as providing public access to the Cattle Point Natural Resource Conservation Area, managed by the Washington Department of Natural Resources (DNR). If erosion continues unabated, the roadway eventually may fail, disrupting vehicular access to these areas. The road is currently maintained by San Juan County (County); the project area of potential effect is primarily within the Park. The entire Park is listed on the National Register of Historic Places as a National Historic Landmark.

A Notice of Intent to begin the conservation planning and environmental impact analysis for the project was published in the Federal Register on February 6, 2004. Public engagement was initiated through a newsletter and news release, followed by two public meetings held February 18, 2004, on San Juan Island. Project team members presented information and gathered feedback and ideas on preliminary alternatives and potential environmental issues. Approximately 30 public comments were received during the scoping period ending March 19, 2004. A Scoping Report was prepared which described the range of potential alternatives identified for more detailed analysis, as well as alternatives dismissed from further consideration (including armoring the base of the slope in lieu of road realignment options). The Scoping Report included comments and agency responses as appendices. On June 17, 2004, the Scoping Report was issued, and a notice posted on the Park Web site announced availability of the document. Throughout 2005-2006 newsletters and press releases summarizing progress on preparation of the EIS were distributed, and the County and other agencies were periodically updated. The Washington State Historic Preservation Officer provided concurrence with a determination of No Adverse Effect on June 23, 2009.

The Notice of Availability of the Draft EIS was published in the Federal Register on September 7, 2010. Public engagement was initiated through wide distribution of a newsletter. An article regarding pending release of the Draft EIS was published September 1, 2010, in the Journal of the San Juan Islands. A public open house was hosted by the Park in the town of Friday Harbor on October 26, 2010 (approximately three dozen persons attended). During the 60 day public comment period, 40 comment letters were received (23 by mail and 17 were submitted at the open house); of this total, seven were from agencies and organizations, and the remainder were received from individuals. No substantially new information was received.

Proposal and Alternatives: Alternative A: No Action—The existing use, maintenance, and management associated with the road would continue without change. This alternative provides a baseline of current conditions to aid comparison and analysis of the action alternatives. Unless current management changes, erosion eventually could cause the road to fail, disrupting vehicular access to residential properties in the Cattle Point Estates and Cape San Juan neighborhoods and to public lands east of the eroding bluff. Since measurements began in 2002, erosion has moved approximately 14 feet closer to the guard rail and is currently 32 feet from the guard rail at its closest point. The continued life span of the road is difficult to predict, however large storm events could potentially make the road unsafe in a few years.

Life expectancy (relative to coastal erosion) of each of the three action alternatives is estimated at approximately 100 years. Alternative C: Long Tunnel on Minor Realignment involves a short realignment (2,830 feet) relatively low on the slope of Mt. Finlayson. Sixteen hundred feet of the realignment would be within a bored tunnel. Maximum slope would be 7% gradient. Alternative D: Mid-Slope Alignment with Short Tunnel involves mid-slope realignment to the north of the existing road, utilizing a short tunnel near the ridge line of Mt. Finlayson. Realignment length would be 4,700 feet, 775 feet of which would be within the tunnel. Maximum slope would be 8% gradient.

The “agency preferred” alternative is Alternative B: Hybrid Mid-Slope Realignment. This involves mid-slope realignment to the north of the existing road, traversing the south-facing slope of Mt. Finlayson. At its highest point, this alignment curves slightly south of the Mt. Finlayson summit. The approximately 4,950 foot long realignment would be entirely on the surface (no tunnel), with a short slope of 10.5% gradient on the eastern end. This also is deemed to be the “environmentally preferred” course of action.

Not sooner than 30 days after publication by the Environmental Protection Agency of its notice of filing of the Final EIS in the Federal Register, a Record of Decision will be prepared. Because this is a delegated EIS, the official responsible for the NPS decision is the Regional Director, Pacific West Region. Subsequently the official responsible for implementation of the approved road relocation project is the Superintendent, San Juan Island National Historical Park.

Dated: September 26, 2012.
Patricia L. Neubacher,
Acting Regional Director, Pacific West Region.

[FR Doc. 2012-24923 Filed 10-9-12; 8:45 am]

BILLING CODE 4310-MS-P